DEPARTMENT OF HEALTH AND HUMAN SERVICES

[Document Identifier: OS-0990-New; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Written comments and recommendations for the proposed information collections must be received within 30 days of this notice directly to the OS OMB Desk Officer all comments must be faxed to OMB at 202-395-6974.

Proposed Project: Evaluation of the “I Can Do It, You Can Do It” Health Promotion Program for Children and Youth with Disabilities—New—Office on Disability (OD).

Abstract: The Department of Health and Human Services' Office on Disability (OD) oversees the implementation and coordination of disability programs, policies, and special initiatives pertaining to the over 54 million persons with disabilities in the United States. As part of these efforts, the OD encourages youth with physical and cognitive disabilities to adopt a healthier life style that includes good nutrition and increased physical activity. “I Can Do it, You Can Do It” is a health promotion intervention program for children and youth between the ages of 10 and 21 with disabilities that employs a one-on-one mentoring approach to change health behaviors. The program is implemented by sponsoring organizations who work with children and youth with disabilities. The OD will evaluate the effectiveness of the program.

The evaluation will be completed over a two-year period. Respondents will be children and youth with disabilities who are participating in the program. Mentors who work with the participants/mentees will complete a post-program survey. Coordinators from the sponsoring organizations will complete a process evaluation survey. Results will be used to determine if the program has been successful, to report progress, and to make revisions for future administration of the program. There are no costs to respondents except their time to participate in the surveys.

Estimated Annualized Burden Table
Forms | Type of respondent | Number of respondents | Number of responses per respondent | Average burden hours per response (in hours) | Total burden hours
Registration Form | Program Participant/Mentee | 660 | 1 | 8/60 | 88
Goal Setting Worksheet | Program Participant/Mentee | 610 | 1 | 7/60 | 71
Mentor Registration Form | Mentor | 450 | 1 | 10/60 | 75
Pre-Test Survey | Program Participant/Mentee | 560 | 1 | 19/60 | 177
Weekly Check-In Form | Program Participant/Mentee | 560 | 8 | 7/60 | 522
First Post-Test Survey | Program Participant/Mentee | 510 | 1 | 18/60 | 153
Second Post-Test Survey | Program Participant/Mentee | 460 | 1 | 18/60 | 138
Mentor Post Assessment | Mentor | 450 | 1 | 15/60 | 112
Agency Coordinator Survey | Agency Coordinators | 6 | 1 | 45/60 | 4.5
Total |  |  |  |  | 1340.5

Terry Nicolosi,
Office of the Secretary, Director, Office of Resources Management .

[FR Doc. E8-11045 Filed 5-15-08; 8:45 am]

BILLING CODE 4150-39-P